GENERAL SERVICES ADMINISTRATION

Office of Communications; Cancellation of Optional Forms

AGENCY: General Services Administration.

ACTION: Notice.

SUMMARY: The Department of Agriculture and the Department of Interior are cancelling the following Optional Forms because they do not collect the correct information:

OF 285, Warehouse Supplies Order

OF 290, Receipt for Property, Fire Suppression

Both of these forms are replaced with the following new Optional Forms:

OF 316, Interagency Incident Waybill (NSN 7540-01-475-4307)

OF 326A, Interagency Incident Waybill—Continuation (NSN 7540-01-475-4306)

You can order the above mentioned forms from the Federal Supply Service, General Products Commodity Center, Fort Worth, TX (817) 978-2508.

DATES: Effective October 11, 2000.

FOR FURTHER INFORMATION CONTACT: Ms. Barbara Williams, General Services Administration, (202) 501-0581.

Dated: September 1, 2000.
Barbara M. Williams,
Deputy Standard and Optional Forms Management Officer.

[FR Doc. 00-25988 Filed 10-10-00; 8:45 am]

BILLING CODE 6820-34-P